DEPARTMENT OF EDUCATION

[Docket No.: ED-2017-ICCD-0072]

Agency Information Collection Activities; Comment Request; Integrated Partner Management (IPM) System

AGENCY: Department of Education (ED), Federal Student Aid (FSA).

ACTION: Notice.

SUMMARY: In accordance with the Paperwork Reduction Act of 1995, ED is proposing a new information collection.

DATES: Interested persons are invited to submit comments on or before July 25, 2017.

ADDRESSES: To access and review all the documents related to the information collection listed in this notice, please use http://www.regulations.gov by searching the Docket ID number ED-2017-ICCD-0072. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Partner Management (IPM) System.

OMB Control Number: 1845-NEW.

Type of Review: A new information collection.

Respondents/Affected Public: State, Local, and Tribal Governments; Private Sector.

Total Estimated Number of Annual Responses: 9,220.

Total Estimated Number of Annual Burden Hours: 7,890.

Abstract: Federal Student Aid has developed the Integrated Partner Management (IPM) system. IPM is the new solution for application processing and financial reporting, that will replace 3 legacy applications. Consolidation of these applications will improve timeliness, data integrity and Department's analysts' ability to get a comprehensive view from one application as opposed to the current disjointed views across multiple applications. The new IPM system will include the application for approval for institutions and financial partners (including lenders) to participate in Federal Student Financial Aid programs. The IPM system will also allow institutions and financial partners participating in the Title IV HEA programs to submit the required audited financial statements and compliance audits. IPM includes significant advances to both partners and FSA analysts in the process used for providing oversight to FSA partners in the Title IV and improvements in the tools and technologies currently in place. IPM will transition a process that is currently heavily paper based to an easy to navigate, automated work-flow process. Under the IPM system the institutions log into a secure Department Web site, enter information pertaining to their eligibility, audit and finances and attach electronic documents to support eligibility, audit and financial statement submissions.

Dated: May 23, 2017.
Kate Mullan,
Acting Director, Information Collection Clearance Division, Office of the Chief Privacy Officer, Office of Management.

[FR Doc. 2017-10876 Filed 5-25-17; 8:45 am]

BILLING CODE 4000-01-P